NUCLEAR REGULATORY COMMISSION

[NRC-2023-0169]

Information Collection: Fitness for Duty Programs

AGENCY: Nuclear Regulatory Commission.

ACTION: Renewal of existing information collection; request for comment.

SUMMARY: The U.S. Nuclear Regulatory Commission (NRC) invites public comment on the renewal of Office of Management and Budget (OMB) approval for an existing collection of information. The information collection is entitled, “Fitness for Duty Programs.”

DATES: Submit comments by July 8, 2024. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0169. Address questions about Docket IDs in Regulations.gov to Stacy Schumann; telephone: 301-415-0624; email: Stacy.Schumann@nrc.gov. For technical questions, contact the individual listed in the “For Further Information Contact” section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2023-0169 when contacting the NRC about the availability of information for this action. Y ou may obtain publicly available information related to this action by any of the following methods:

• Federal Rulemaking Website: Go to https://www.regulations.gov and search for Docket ID NRC-2023-0169. A copy of the collection of information and related instructions may be obtained without charge by accessing Docket ID NRC-2023-0169 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal rulemaking website (https://www.regulations.gov). Please include Docket ID NRC-2023-0169, in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized as follows.

1. The title of the information collection: 10 CFR part 26, “Fitness for Duty Programs.”

2. OMB approval number: 3150-0146.

3. Type of submission: Extension.

4. The form number, if applicable: NRC Form 890, “Single Positive Test Form”; NRC Form 891, “Annual Reporting Form for Drug and Alcohol Tests”; and NRC Form 892, “Annual Fatigue Reporting Form.”

5. How often the collection is required or requested: Annually and on occasion. The NRC receives reports on an annual basis that detail the Fitness for Duty (FFD) Program performance. The NRC also receives, on occasion, reports associated with FFD policy violations or programmatic failures. Depending on the type of violation or programmatic failure, the report would be made within 24 hours of the event occurrence, or within 30 days of completing an investigation into a programmatic failure.

6. Who will be required or asked to respond: Nuclear power reactor licensees licensed under 10 CFR part 50, “Domestic Licensing of Production and Utilization Facilities” and 10 CFR part 52, “Licenses, Certifications, and Approvals for Nuclear Power Plants” (except those who have permanently ceased operations and have verified that fuel has been permanently removed from the reactor); all holders of nuclear power plant construction permits and early site permits with a limited work authorization and applicants for nuclear power plant construction permits that have a limited work authorization under the provisions of 10 CFR part 50; all holders of a combined license for a nuclear power plant issued under 10 CFR part 52 and applicants for a combined license that have a limited work authorization; all licensees who are authorized to possess, use, or transport formula quantities of strategic special nuclear material (SSNM) under the provisions of 10 CFR part 70, “Domestic Licensing of Special Nuclear Material”; all holders of a certificate of compliance of an approved compliance plan issued under 10 CFR part 76 “Certification of Gaseous Diffusion Plants,” if the holder engages in activities involving formula quantities of SSNM; and all contractor/vendors (C/Vs) who implement FFD programs or program elements to the extent that the licensees and other entities listed in this paragraph rely on those C/V FFD programs or program elements to comply with 10 CFR part 26.

7. The estimated number of annual responses: 324,646 responses (254 reporting responses + 49 recordkeepers + 324,343 third-party disclosure responses).

8. The estimated number of annual respondents: 64,392 respondents (28 drug and alcohol testing programs + 21 fatigue management programs + 64,343 third party respondents).

9. The estimated number of hours needed annually to comply with the information collection requirement or request: 540,050 (5,301 hours reporting + 169,746 hours recordkeeping + 365,003 hours third-party disclosure)

10. Abstract: The NRC regulations in 10 CFR part 26 prescribe requirements to establish, implement, and maintain FFD programs at affected licensees and other entities. The objectives of these requirements are to provide reasonable assurance that persons subject to the rule are trustworthy, reliable, and not under the influence of any substance, legal or illegal, or mentally or physically impaired from any cause, which in any way could adversely affect their ability to safely and competently perform their duties. These requirements also provide reasonable assurance that the effects of fatigue and degraded alertness on individual's abilities to safely and competently perform their duties are managed commensurate with maintaining public health and safety. The information collections required by 10 CFR part 26 are necessary to properly manage FFD programs and to enable effective and efficient regulatory oversight of affected licensees and other entities. These licensees and other entities must perform certain tasks, maintain records, and submit reports to comply with 10 CFR part 26 drug and alcohol and fatigue management requirements. These records and reports are necessary to enable regulatory inspection and evaluation of a licensee's or other entity's compliance with NRC regulations, FFD performance, and significant FFD-related events to help maintain public health and safety, promote the common defense and security, and protect the environment.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

IV. Availability of Documents

The documents identified in the following table are available to interested persons through ADAMS.

Document description | ADAMS accession No.
Draft Supporting Statement | ML24012A205
Burden Spreadsheet | ML24012A206
NRC Form 890, “Single Positive Test Form” | ML22321A221
NRC Form 891, “Annual Reporting Form for Drug and Alcohol Tests” | ML22321A193
NRC Form 892, “Annual Fatigue Reporting Form” | ML22013B250

Dated: May 2, 2024.
For the Nuclear Regulatory Commission.
David Cullison,
NRC Clearance Officer, Office of the Chief Information Officer.

[FR Doc. 2024-09915 Filed 5-6-24; 8:45 am]

BILLING CODE 7590-01-P